DEPARTMENT OF HEALTH AND HUMAN SERVICES

Administration for Children and Families

Submission for OMB Review; Comment Request

Title: Title V section 510 Abstinence Education Grant Program—Annual Program Application and Annual Performance Progress Report.

OMB No.: 0970-0271.

Description: The Title V section 510 Abstinence Education Grant Program (section 510 program) is a formula block grant program, authorized through September 30, 2007, by S. 1701, a bill to provide for the extension of transitional medical assistance (TMA) and the abstinence education program through the end of fiscal year 2007, and for other purposes.

The section 510 Annual Program Application requires basic application information that will be used by the Administration for Children and Families (ACF) to establish applicant eligibility, determine each applicant's compliance with Federal law, review and evaluate each applicant's proposed plans, and to develop any conditions to be placed on grant awards. Projects must meet the legislative priorities as described in section 510 of Title V of the Social Security Act.

The section 510 Annual Performance Progress Report includes four forms through which grantees report basic performance information, which is used by ACF to determine each grantee's compliance with Federal law and to review and evaluate each applicant's progress toward achieving its goals. Basic performance information includes the unduplicated count of clients served, hours of service received by clients, program completion data, and communities served.

Respondents: The 50 States, the District of Columbia, and the following 8 Territories: American Samoa, Guam, Republic of the Marshall Islands, Federated States of Micronesia, Commonwealth of the Northern Mariana Islands, Republic of Palau, Commonwealth of Puerto Rico, and the U.S. Virgin Islands.

Annual Burden Estimates
Instrument | Number of respondents | Response per respondent | Average burden hours per response | Total burden hours
Annual Program Application | 59 | 1 | 36 | 2,124
Annual Performance Progress Report | 59 | 1 | 122 | 7,198

Estimated Total Annual Burden Hours: 9,322.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974. Attn: Desk Officer for the Administration for Children and Families.

Dated: August 29, 2007.
Janean Chambers,
Reports Clearance Officer.

[FR Doc. 07-4311 Filed 9-4-07; 8:45 am]

BILLING CODE 4184-01-M